DEPARTMENT OF COMMERCE

International Trade Administration

[A-583-831]

Stainless Steel Sheet and Strip in Coils from Taiwan: Preliminary Results and Rescission in Part of Antidumping Duty Administrative Review

AGENCY: Import Administration, International Trade Administration, Department of Commerce.

SUMMARY: In response to requests by one Taiwanese manufacturer/exporter, Chia Far Industrial Factory Co., Ltd. (Chia Far) and petitioners,¹ the Department of Commerce (the Department) is conducting an administrative review of the antidumping duty order on stainless steel sheet and strip in coils (SSSS) from Taiwan. This review covers fifteen producers/exporters of the subject merchandise. The period of review (POR) is July 1, 2004, through June 30, 2005.

¹ The petitioners are Allegheny Ludlum, AK Steel Corporation, Butler Armco Independent Union, J&L Specialty Steel, Inc., United Steelworks of America, AFL-CIO/CLC, and Zanesville Armco Independent Organization.

The Department has preliminarily determined that some of the companies subject to this review made U.S. sales at prices less than normal value (NV). If these preliminary results are adopted in our final results of administrative review, we will instruct U.S. Customs and Border Protection (CBP) to assess antidumping duties on all appropriate entries. Interested parties are invited to comment on these preliminary results of review. We will issue the final results of review no later than 120 days from the date of publication of this notice.

EFFECTIVE DATE: August 9, 2006.

FOR FURTHER INFORMATION CONTACT: Melissa Blackledge, AD/CVD Operations, Office 4, Import Administration, International Trade Administration, U.S. Department of Commerce, 14th Street and Constitution Avenue, NW, Washington, DC 20230, telephone: (202) 482-3518.

SUPPLEMENTARY INFORMATION:

Background

On July 27, 1999, the Department published in the Federal Register the antidumping duty order on SSSS from Taiwan. See Notice of Antidumping Duty Order; Stainless Steel Sheet and Strip in Coils From United Kingdom, Taiwan, and South Korea, 64 FR 40555 (July 27, 1999). On July 1, 2005, the Department published in the Federal Register a notice of “Opportunity to Request Administrative Review” of the antidumping duty order on SSSS from Taiwan. See Antidumping or Countervailing Duty Order, Finding, or Suspended Investigation; Opportunity to Request Administrative Review, 70 FR 38099 (July 1, 2005).

On July 29, 2005, Chia Far requested that the Department conduct an administrative review of its sales and entries of subject merchandise into the United States during the POR, in accordance with 19 CFR § 351.213(b)(2). Additionally, on July 29, 2005, petitioners requested that the Department conduct a review of fifteen companies pursuant to 19 CFR § 351.213(b)(1). Based on these requests, the Department initiated an administrative review of the following fifteen companies: Ta Chen Stainless Pipe Co., Ltd. (Ta Chen), China Steel Corporation (China Steel), Yieh Mau Corp. (Yieh Mau), Chain Chon Industrial Co., Ltd. (Chain Chon), Goang Jau Shing Enterprise Co., Ltd. (Goang Jau Shing), PFP Taiwan Co., Ltd. (PFP Taiwan), Yieh Loong Enterprise Co., Ltd. (also known as Chung Hung Steel Co., Ltd. (Yieh Loong), Tang Eng Iron Works (Tang Eng), Yieh Trading Corp. (Yieh Corp.), Chien Shing Stainless Co. (Chien Shing), Chia Far, Yieh United Steel Corporation (YUSCO), Emerdex Stainless Flat-Rolled Products, Inc., Emerdex Stainless Steel, Inc., and the Emerdex Group (the Emerdex companies). See Initiation of Antidumping and Countervailing Duty Administrative Reviews and Requests for Revocation in Part, 70 FR 51009 (August 29, 2005).

On August 10, 2005, the Department issued its antidumping questionnaire to all of the companies for which a review was initiated except the Emerdex companies (for further discussion of the Emerdex companies, see the section of this notice entitled “Partial Preliminary Rescission of Review,” below).² Of the seven companies that responded to the questionnaire, only Chia Far reported that it sold subject merchandise to the United States during the POR.

² Section A of the questionnaire requests general information concerning a company's corporate structure and business practices, the merchandise under review that it sells, and the manner in which it sells that merchandise in all of its markets. Section B requests a complete listing of all home market sales, or, if the home market is not viable, of sales in the most appropriate third-country market (this section is not applicable to respondents in non-market economy (NME) cases). Section C requests a complete listing of U.S. sales. Section D requests information on the cost of production (COP) of the foreign like product and the constructed value (CV) of the merchandise under review. Section E requests information on further manufacturing.

Throughout this administrative review, the Department has issued supplemental questionnaires to Chia Far, YUSCO, and Yieh Mau, and petitioners have submitted comments regarding the respondents' questionnaire responses. The petitioners have also submitted comments regarding the Emerdex companies, Ta Chen, and the respondents claiming no sales or shipments.

On February 23, 2006, the Department notified the following companies by letter that if they did not respond to the Department's requests for information by March 9, 2006, the Department may use adverse facts available (AFA) in determining their dumping margins: Tang Eng, Goang Jau Shing, Chien Shing, PFP Taiwan, China Steel, Chain Chon, and Yieh Corp. On March 8, 2006, Chain Chon reported that it and its affiliates did not export subject merchandise to the United States during the POR. On June 9, 2006, China Steel reported that it did not produce, sell, or export subject merchandise to the United States during the POR.

On March 22, 2006, the Department extended the deadline for issuing the preliminary results in this administrative review until July 31, 2006. See Stainless Steel Sheet and Strip in Coils from Taiwan: Extension of Time Limit for Preliminary Results of Antidumping Duty Administrative Review, 71 FR 14502 (March 22, 2006).

The Department is conducting this administrative review in accordance with section 751 of the Tariff Act of 1930, as amended (the Act).

Period of Review

The POR is July 1, 2004, through June 30, 2005.

Scope of the Order

The products covered by the order are certain stainless steel sheet and strip in coils. Stainless steel is an alloy steel containing, by weight, 1.2 percent or less of carbon and 10.5 percent or more of chromium, with or without other elements. The subject sheet and strip is a flat-rolled product in coils that is greater than 9.5 mm in width and less than 4.75 mm in thickness, and that is annealed or otherwise heat treated and pickled or otherwise descaled. The subject sheet and strip may also be further processed (e.g., cold-rolled, polished, aluminized, coated, etc.) provided that it maintains the specific dimensions of sheet and strip following such processing.

The merchandise subject to the order is classified in the Harmonized Tariff Schedule of the United States (HTS) at subheadings: 7219.13.00.31, 7219.13.00.51, 7219.13.00.71, 7219.13.00.81, 7219.14.00.30, 7219.14.00.65, 7219.14.00.90, 7219.32.00.05, 7219.32.00.20, 7219.32.00.25, 7219.32.00.35, 7219.32.00.36, 7219.32.00.38, 7219.32.00.42, 7219.32.00.44, 7219.33.00.05, 7219.33.00.20, 7219.33.00.25, 7219.33.00.35, 7219.33.00.36, 7219.33.00.38, 7219.33.00.42, 7219.33.00.44, 7219.34.00.05, 7219.34.00.20, 7219.34.00.25, 7219.34.00.30, 7219.34.00.35, 7219.35.00.05, 7219.35.00.15, 7219.35.00.30, 7219.35.00.35, 7219.90.00.10, 7219.90.00.20, 7219.90.00.25, 7219.90.00.60, 7219.90.00.80, 7220.12.10.00, 7220.12.50.00, 7220.20.10.10, 7220.20.10.15, 7220.20.10.60, 7220.20.10.80, 7220.20.60.05, 7220.20.60.10, 7220.20.60.15, 7220.20.60.60, 7220.20.60.80, 7220.20.70.05, 7220.20.70.10, 7220.20.70.15, 7220.20.70.60, 7220.20.70.80, 7220.20.80.00, 7220.20.90.30, 7220.20.90.60, 7220.90.00.10, 7220.90.00.15, 7220.90.00.60, and 7220.90.00.80. Although the HTS subheadings are provided for convenience and customs purposes, the Department's written description of the merchandise under the order is dispositive.

Excluded from the scope of the order are the following: (1) sheet and strip that is not annealed or otherwise heat treated and pickled or otherwise descaled, (2) sheet and strip that is cut to length, (3) plate (i.e., flat-rolled stainless steel products of a thickness of 4.75 mm or more), (4) flat wire (i.e., cold-rolled sections, with a prepared edge, rectangular in shape, of a width of not more than 9.5 mm), and (5) razor blade steel. Razor blade steel is a flat-rolled product of stainless steel, not further worked than cold-rolled (cold-reduced), in coils, of a width of not more than 23 mm and a thickness of 0.266 mm or less, containing, by weight, 12.5 to 14.5 percent chromium, and certified at the time of entry to be used in the manufacture of razor blades. See Chapter 72 of the HTS, “Additional U.S. Note” 1(d).

Also excluded from the scope of the order are certain specialty stainless steel products described below. Flapper valve steel is defined as stainless steel strip in coils containing, by weight, between 0.37 and 0.43 percent carbon, between 1.15 and 1.35 percent molybdenum, and between 0.20 and 0.80 percent manganese. This steel also contains, by weight, phosphorus of 0.025 percent or less, silicon of between 0.20 and 0.50 percent, and sulfur of 0.020 percent or less. The product is manufactured by means of vacuum arc remelting, with inclusion controls for sulphide of no more than 0.04 percent and for oxide of no more than 0.05 percent. Flapper valve steel has a tensile strength of between 210 and 300 ksi, yield strength of between 170 and 270 ksi, plus or minus 8 ksi, and a hardness (Hv) of between 460 and 590. Flapper valve steel is most commonly used to produce specialty flapper valves in compressors.

Also excluded is a product referred to as suspension foil, a specialty steel product used in the manufacture of suspension assemblies for computer disk drives. Suspension foil is described as 302/304 grade or 202 grade stainless steel of a thickness between 14 and 127 microns, with a thickness tolerance of plus-or-minus 2.01 microns, and surface glossiness of 200 to 700 percent Gs. Suspension foil must be supplied in coil widths of not more than 407 mm, and with a mass of 225 kg or less. Roll marks may only be visible on one side, with no scratches of measurable depth. The material must exhibit residual stresses of 2 mm maximum deflection, and flatness of 1.6 mm over 685 mm length.

Certain stainless steel foil for automotive catalytic converters is also excluded from the scope of the order. This stainless steel strip in coils is a specialty foil with a thickness of between 20 and 110 microns used to produce a metallic substrate with a honeycomb structure for use in automotive catalytic converters. The steel contains, by weight, carbon of no more than 0.030 percent, silicon of no more than 1.0 percent, manganese of no more than 1.0 percent, chromium of between 19 and 22 percent, aluminum of no less than 5.0 percent, phosphorus of no more than 0.045 percent, sulfur of no more than 0.03 percent, lanthanum of less than 0.002 or greater than 0.05 percent, and total rare earth elements of more than 0.06 percent, with the balance iron.

Permanent magnet iron-chromium-cobalt alloy stainless strip is also excluded from the scope of the order. This ductile stainless steel strip contains, by weight, 26 to 30 percent chromium, and 7 to 10 percent cobalt, with the remainder of iron, in widths 228.6 mm or less, and a thickness between 0.127 and 1.270 mm. It exhibits magnetic remanence between 9,000 and 12,000 gauss, and a coercivity of between 50 and 300 oersteds. This product is most commonly used in electronic sensors and is currently available under proprietary trade names such as Arnokrome III.³

³ Arnokrome III is a trademark of the Arnold Engineering Company.

Certain electrical resistance alloy steel is also excluded from the scope of the order. This product is defined as a non-magnetic stainless steel manufactured to American Society of Testing and Materials (ASTM) specification B344 and containing, by weight, 36 percent nickel, 18 percent chromium, and 46 percent iron, and is most notable for its resistance to high temperature corrosion. It has a melting point of 1390 degrees Celsius and displays a creep rupture limit of 4 kilograms per square millimeter at 1000 degrees Celsius. This steel is most commonly used in the production of heating ribbons for circuit breakers and industrial furnaces, and in rheostats for railway locomotives. The product is currently available under proprietary trade names such as Gilphy 36.⁴

⁴ Gilphy 36 is a trademark of Imphy, S.A.

Certain martensitic precipitation-hardenable stainless steel is also excluded from the scope of the order. This high-strength, ductile stainless steel product is designated under the Unified Numbering System (UNS) as S45500-grade steel, and contains, by weight, 11 to 13 percent chromium, and 7 to 10 percent nickel. Carbon, manganese, silicon and molybdenum each comprise, by weight, 0.05 percent or less, with phosphorus and sulfur each comprising, by weight, 0.03 percent or less. This steel has copper, niobium, and titanium added to achieve aging, and will exhibit yield strengths as high as 1700 Mpa and ultimate tensile strengths as high as 1750 Mpa after aging, with elongation percentages of 3 percent or less in 50 mm. It is generally provided in thicknesses between 0.635 and 0.787 mm, and in widths of 25.4 mm. This product is most commonly used in the manufacture of television tubes and is currently available under proprietary trade names such as Durphynox 17.⁵

⁵ Durphynox 17 is a trademark of Imphy, S.A.

Finally, three specialty stainless steels typically used in certain industrial blades and surgical and medical instruments are also excluded from the scope of the order. These include stainless steel strip in coils used in the production of textile cutting tools (e.g., carpet knives).⁶ This steel is similar to AISI grade 420 but containing, by weight, 0.5 to 0.7 percent of molybdenum. The steel also contains, by weight, carbon of between 1.0 and 1.1 percent, sulfur of 0.020 percent or less, and includes between 0.20 and 0.30 percent copper and between 0.20 and 0.50 percent cobalt. This steel is sold under proprietary names such as GIN4 Mo. The second excluded stainless steel strip in coils is similar to AISI 420-J2 and contains, by weight, carbon of between 0.62 and 0.70 percent, silicon of between 0.20 and 0.50 percent, manganese of between 0.45 and 0.80 percent, phosphorus of no more than 0.025 percent and sulfur of no more than 0.020 percent. This steel has a carbide density on average of 100 carbide particles per 100 square microns. An example of this product is GIN5 steel. The third specialty steel has a chemical composition similar to AISI 420 F, with carbon of between 0.37 and 0.43 percent, molybdenum of between 1.15 and 1.35 percent, but lower manganese of between 0.20 and 0.80 percent, phosphorus of no more than 0.025 percent, silicon of between 0.20 and 0.50 percent, and sulfur of no more than 0.020 percent. This product is supplied with a hardness of more than Hv 500 guaranteed after customer processing, and is supplied as, for example, GIN6.⁷

⁶ This list of uses is illustrative and provided for descriptive purposes only.

⁷ GIN4 Mo, GIN5 and GIN6 are the proprietary grades of Hitachi Metals America, Ltd.

Partial Preliminary Rescission of Review

Six respondents, YUSCO, Yieh Mau, Ta Chen, Chain Chon, Yieh Loong, and China Steel, certified to the Department that they did not ship subject merchandise to the United States during the POR. The Department subsequently obtained CBP information consistent with the respondents' claims. See Memorandum From Melissa Blackledge To The File, Data Query Results and Entry Packages, dated June 29, 2006.

The evidence on the record does not indicate that YUSCO, Yieh Mau, Ta Chen, Chain Chon, Yieh Loong, or China Steel exported subject merchandise to the United States during the POR. Therefore, it is appropriate to rescind the review for these respondents based on the fact that there were no exports or entries of SSSS during the POR. See Chia Far Industrial Factory Co., Ltd. v. United States, 343 F. Supp 2d 1344, 1374 (2004). In accordance with 19 CFR § 351.213(d)(3) and consistent with the Department's practice, we are preliminarily rescinding our review with respect to YUSCO, Yieh Mau, Ta Chen, Chain Chon, Yieh Loong, and China Steel. See, e.g., Notice of Final Results and Partial Rescission of Antidumping Duty Administrative Review: Certain Welded Carbon Steel Pipe and Tube from Turkey, 63 FR 35190, 35191 (June 29, 1998); Certain Fresh Cut Flowers from Colombia; Final Results and Partial Rescission of Antidumping Duty Administrative Review, 62 FR 53287, 53288 (October 14, 1997).

Emerdex Companies

The Department finds that it is appropriate to rescind the instant review with respect to the Emerdex Companies. During the course of this administrative review, petitioners have submitted the following information which they claim supports their contention that there is an Emerdex company which is a Taiwanese exporter, supplier, or producer of subject merchandise: (1) a 2003 Dun & Bradstreet Business Information Report for Emerdex Stainless Flat Roll Products Inc. (Emerdex Flat Roll) indicating the company “operates blast furnaces or steel mills, specializing in the manufacture of stainless steel,” (2) Emerdex Flat Roll's 2003 U.S. income tax return indicating at least 25% of the company is owned by someone in Taiwan, (3) the 2002 financial statement of Ta Chen showing the second largest accounts payable balance for the company was owed to Emerdex. According to petitioners, the principal input used by Ta Chen in production is SSSS.⁸ Based upon the above information, petitioners urge the Department to explore this matter further by issuing a series of questions regarding affiliation to any parent company that Emerdex might have in Taiwan (via Emerdex Flat Roll or Ta Chen).

⁸ Ta Chen has been a respondent in the antidumping duty proceeding involving stainless steel butt-weld pipe fittings from Taiwan. In the 2002-2003 segment of that proceeding, the Department found Ta Chen to be affiliated to the Emerdex companies (these companies imported stainless steel butt-weld pipe fittings into the United States). As noted above, Ta Chen is also a respondent in the instant administrative review.

Notwithstanding petitioners' arguments, we find it appropriate to preliminarily rescind the instant review with respect to the Emerdex companies rather than undertake an examination of those U.S. companies, and their affiliates, in order to determine the appropriate respondent. Pursuant to 19 CFR § 351.213(b)(2), domestic interested parties may request a review of “specified individual exporters or producers covered by the order.” Information in the petitioners' September 27, 2005, submission to the Department indicates that the Emerdex Companies named by petitioners in their review request are United States corporations located in California, U.S.A.⁹ See also petitioners' November 5, 2005, submission to the Department. The party requesting an administrative review “must bear the relatively small burden imposed on it by the regulation to name names” of the appropriate respondent in its review request. See Floral Trade Council v. United States, et al., 17 CIT 1417, 1418 citing Floral Trade Council v. United States, 888 F.2d 1366, 1369 (Fed. Cir. 1989) 1993; see also Potassium Permanganate From the People's Republic of China: Rescission of Antidumping Duty Administrative Review, 68 FR 58306, 58307 (October 9, 2003) (the Department rescinded the review noting that the party requested a review of a U.S. importer, rather than an exporter or producer of subject merchandise and it failed to identify the exporter or producer to be reviewed). Where this burden has not been met, the “ITA is not required to conduct an investigation to determine who should be investigated in an administrative review proceeding.” Floral Trade Council v. United States et al., 707 F. Supp. 1343, 1345 (1989). Moreover, petitioners' failure to name the actual parties to be reviewed has deprived importers of notice that their imports could be affected by the review. As the Court of International Trade (CIT) stated, the Department's initiation notice “serves to notify any interested party that the antidumping duty rate on goods obtained from exporters named in the notice of initiation for an administrative review may be affected by the outcome of that review. So apprised, “importers could participate in the administrative review in an effort to ensure that the calculation of antidumping duties on those products was correct.” See Transcom, Inc. v. United States, 182 F.3d 876, 880 (1999). Here, no such notice was given because petitioners failed to name the foreign exporters or producers to be reviewed.

⁹ Also, the Department was not able to locate any company in Taiwan named Emerdex or with Emerdex as part of its name, and the petitioners did not submit any information on the record identifying any Emerdex company located or operating in Taiwan.

Lastly, we note that none of the information placed on the record by petitioners demonstrates that there is an Emerdex parent corporation in Taiwan that produces or exports subject merchandise. The Dunn & Bradstreet report and Ta Chen's accounts payable balance relate to the Emerdex companies located in California, not companies located in Taiwan.¹⁰ Furthermore, Emerdex Flat Roll's 2003 U.S. tax return does not state that the company has a parent corporation in Taiwan. Rather, the tax return simply notes that during the tax year, a “foreign person” in Taiwan owned, directly or indirectly, either 25% or more of the company's voting shares or 25% or more of the total value of all classes of the company's stock. The information in the tax return does not indicate that the “foreign person” is a company, let alone a company that produces or exports subject merchandise. Accordingly, the Department is preliminarily rescinding the instant review with respect to the Emerdex companies.

¹⁰ Additionally, the Department has obtained information from Dunn & Bradstreet indicating that Emerdex Flat Roll is a wholesaler of stainless steel products, not a producer. See the Memorandum From Melissa Blackledge To The File regarding the Dun & Bradstreet Business Information Report submitted by Collier Shannon Scott, PLLC on behalf of petitioners, dated February 27, 2006. The information the Department obtained from Dunn & Bradstreet is consistent with the business activity code reported for Emerdex Flat Roll in the company's 2003 U.S. income tax return and the information reported to the Department in the 2002-2003 administrative review of stainless steel butt-weld pipe fittings from Taiwan. See Ta Chen's January 26, 2003, supplemental questionnaire response (at B-1 and B-2) from the stainless steel butt-weld pipe fittings case (on July 13, 2006, the Department placed these pages on the record of this review).

Use of Facts Available

Section 776(a)(2) of the Act, provides that if any interested party: (A) withholds information that has been requested by the Department, (B) fails to provide such information by the deadlines for submission of the information or in the form or manner requested, (C) significantly impedes a proceeding, or (D) provides such information but the information cannot be verified, the Department shall, subject to section 782(d) of the Act, use facts otherwise available in making its determination.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e) of the Act, disregard all or part of the original and subsequent responses, as appropriate.

The evidence on the record of this review establishes that, pursuant to section 776(a)(2)(A) of the Act, the use of total facts available is warranted in determining the dumping margin for Tang Eng, PFP Taiwan, Yieh Corp., Goang Jau Shing, and Chien Shing, because these companies failed to provide requested information. Specifically, these companies failed to respond to the Department's antidumping questionnaire.

On February 23, 2006, the Department informed these companies by letter that failure to respond to the requests for information by March 9, 2006, may result in the use of facts available in determining their dumping margins. These five manufacturers/exporters, however, did not respond to the Department's February 23, 2006, letter. Because these respondents failed to provide any of the necessary information requested by the Department, pursuant to section 776(a)(2)(A) of the Act, we have based the dumping margins for these companies on the facts otherwise available.

Use of Adverse Inferences

Section 776(b) of the Act states that if the Department “finds that an interested party has failed to cooperate by not acting to the best of its ability to comply with a request for information from the administering authority..., the administering authority ... in reaching the applicable determination under this title, may use an inference that is adverse to the interests of that party in selecting from among the facts otherwise available.” See also Statement of Administrative Action (SAA) accompanying the Uruguay Round Agreements Act (URAA), H. Rep. No. 103-316 at 870 (1994). Section 776(b) of the Act also provides that an adverse inference may include reliance on information derived from (1) the petition; (2) a final determination in the investigation under this title; (3) any previous review under section 751 or determination under section 753; or (4) any other information on the record.

Adverse inferences are appropriate “to ensure that the party does not obtain a more favorable result by failing to cooperate than if it had cooperated fully.” See SAA at 870; Mannesmannrohren-Werke AG v. United States, 77 F. Supp. 2d 1302 (CIT 1999). The Court of Appeals for the Federal Circuit (CAFC), in Nippon Steel Corporation v. United States, 337 F.3d 1373, 1380 (Fed. Cir. 2003), held that the Department need not show intentional conduct existed on the part of the respondent in substantiating a finding of “failure to act to the best of a respondent's ability;” but rather an adverse inference may be drawn from circumstances in which it is reasonable for Commerce to expect that more forthcoming responses should have been made, i.e., information was not provided “under circumstances in which it is reasonable to conclude that less than full cooperation has been shown.” Id.

The record shows that Tang Eng, PFP Taiwan, Yieh Corp., Goang Jau Shing, and Chien Shing failed to cooperate to the best of their abilities, within the meaning of section 776(b) of the Act. As noted above, Tang Eng, PFP Taiwan, Yieh Corp., Goang Jau Shing, and Chien Shing failed to provide any response to the Department's requests for information. As a general matter, it is reasonable for the Department to assume that these companies possessed the records necessary to participate in this review; however, by not supplying the information the Department requested, these companies failed to cooperate to the best of their abilities. As these companies have failed to cooperate to the best of their abilities, we are applying an adverse inference in determining their dumping margin pursuant to section 776(b) of the Act. We have therefore assigned these companies a dumping margin of 21.10 percent, which is the highest appropriate dumping margin from this or any prior segment of the instant proceeding. See section 776(b)(2) of the Act. This rate was the highest petition margin and was used as AFA in numerous antidumping duty administrative reviews of this order. See, e.g., Stainless Steel Sheet and Strip from Taiwan; Final Results and Partial Rescission of Antidumping Duty Administrative Review, 67 FR 6682 (February 13, 2002) (1999-2000 AR of SSSS from Taiwan).

The Department notes that while the highest dumping margin calculated during this or any prior segment of the instant proceeding is 36.44 percent, this margin represents a combined rate applied to a channel transaction in the investigation in this proceeding, and it is based on “middleman dumping” by Ta Chen. See Tung Mung Development Co. v. United States, 219 F. Supp. 2d 1333, 1345 (CIT 2002), aff'd 354 F. 3d 1371, 1382 (Fed. Cir. 2004). Where circumstances indicate that a particular dumping margin is not appropriate as AFA, the Department will disregard the margin and determine another more appropriate one as facts available. See Fresh Cut Flowers from Mexico; Final Results of Antidumping Duty Administrative Review, 61 FR 6812, 6814 (February 22, 1996) (where the Department disregarded the highest dumping margin for use as AFA because the margin was based on another company's uncharacteristic business expense, resulting in an unusually high dumping margin). An AFA rate based on middleman dumping would be inappropriate given that the record does not indicate that any of Tang Eng's, PFP Taiwan's, Yieh Corp.'s, Goang Jau Shing's, or Chien Shing's exports to the United States during the POR involved a middleman. Thus, consistent with previous reviews, the Department has continued to use as AFA the highest dumping margin from any segment of the proceeding for a producer's direct exports to the United States, without middleman dumping, which is 21.10 percent.

Section 776(c) of the Act requires that the Department, to the extent practicable, corroborate secondary information from independent sources that are reasonably at its disposal. Secondary information is defined as “{i}nformation derived from the petition that gave rise to the investigation or review, the final determination concerning the subject merchandise, or any previous review under section 751 concerning the subject merchandise.” See SAA at 870. The SAA clarifies that “corroborate” means that the Department will satisfy itself that the secondary information to be used has probative value. See SAA at 870. As noted in F.Lii de Cecco di Filippo Fara S. Martino, S.p.A. v. United States, 216 F.3d 1027, 1030 (2000), to corroborate secondary information, the Department will, to the extent practicable, examine the reliability and relevance of the information.

The rate of 21.10 percent constitutes secondary information. To corroborate this rate we compared recent transaction-specific rates for other respondents covered by the antidumping duty order on SSSS from Taiwan to the 21.10 percent rate and found the 21.10 percent rate to be reliable and relevant for use in this administrative review. For the company-specific information used to corroborate this rate, see Memorandum from Melissa Blackledge, International Trade Analyst, to the File regarding Research for Corroboration for the Preliminary Results in the 2004-2005 Antidumping Duty Administrative Review of Stainless Steel Sheet and Strip in Coils From Taiwan, dated concurrently with this notice. We find the 21.10 percent rate to be probative because it does not appear to be aberrational when compared to the respondents' transaction-specific rates and no information has been presented to call into question the relevance of the rate. Thus, we find that the rate of 21.10 percent is sufficiently corroborated for purposes of the instant administrative review.

Affiliation

During the first administrative review in this proceeding, the Department found Chia Far and its U.S. reseller, Lucky Medsup Inc. (Lucky Medsup), to be affiliated by way of a principal-agent relationship. The Department primarily based its finding on: (1) a document demonstrating the existence of a principal-agent relationship; (2) Chia Far's degree of involvement in sales between Lucky Medsup and its customers; (3) evidence indicating Chia Far knew the identity of Lucky Medsup's customers, and the customers were aware of Chia Far; (4) Lucky Medsup's operations as a “go-through” who did not maintain any inventory or further manufacture products; and, (5) Chia Far's inability to provide any documents to support its claim that the document indicating a principal-agent relationship was not valid during the POR. See Stainless Steel Sheet and Strip in Coils from Taiwan: Final Results and Partial Rescission of Antidumping Duty Administrative Review, 67 FR 6682 (February 13, 2002) and the accompanying Issues and Decision Memorandum at Comment 23 (upheld by CIT in Chia Far Industrial Factory Co. Ltd. v. United States, et al., 343 F. Supp. 2d 1344, 1356 (August 2, 2004)). The Department continues to treat Chia Far and Lucky Medsup as affiliated parties.

In the instant administrative review Chia Far contends that it is no longer affiliated with Lucky Medsup because: (1) there is no cross-ownership between Chia Far and Lucky Medsup and no sharing of officers or directors; (2) Lucky Medsup's owner operates independently of Chia Far as a middleman; (3) Lucky Medsup's transactions with Chia Far are at arm's length; (4) there are no exclusive distribution contracts between Lucky Medsup and Chia Far (the one that existed in 1994, was terminated in 1995); and, (5) Lucky Medsup is not obligated to sell Chia Far's merchandise and Chia Far is not obligated to sell through Lucky Medsup in the United States.

We, however, find the fact pattern in the instant review mirrors that which existed in the first antidumping duty administrative review when the Department found the parties to be affiliated. See Stainless Steel Sheet and Strip From Taiwan; Final Results and Partial Rescission of Antidumping Duty Administrative Review, 67 FR 6682 (February 13, 2002). First and foremost, Chia Far could not provide any documents in response to the Department's request that it demonstrate that the agency agreement was terminated and the principal-agent relationship no longer exists. See Chia Far's January 19, 2006, supplemental questionnaire response at page 4. Furthermore, Chia Far's degree of involvement in Lucky Medsup's U.S. sales is similar to that found in prior reviews. Specifically, Chia Far played a role in the sales negotiation process with the end-customer (Chia Far was informed of the identity of the end-customers and of certain sales terms that they had requested before it set its price to Lucky Medsup), Lucky Medsup's sales order confirmation identifies Chia Far as the manufacturer, and Chia Far shipped the merchandise directly to end-customers and provided technical assistance directly to certain end-customers. Lastly, as was true in prior segments of this proceeding, during the instant POR Lucky Medsup did not maintain inventory or further manufacture SSSS. Therefore, we continue to find that Chia Far is affiliated with Lucky Medsup by way of a principal-agent relationship.

Identifying Home Market Sales

Section 773 (a)(1)(B) of the Act defines NV as the price at which foreign like product is first sold (or, in the absence of a sale, offered for sale) for consumption in the exporting country (home market), in the usual commercial quantities and in the ordinary course of trade and, to the extent practicable, at the same level of trade (LOT) as the export price (EP) or constructed export price (CEP). In implementing this provision, the CIT has found that sales should be reported as home market sales if the producer “knew or should have known that the merchandise {it sold} was for home consumption based upon the particular facts and circumstances surrounding the sales.” See Tung Mung Development Co., Ltd. & Yieh United Steel Corp. v. United States, et al., 25 CIT 752, 783 (2001); citing INA Walzlager Schaeffler KG v. United States, 957 F. Supp. 251 (1997). Where a respondent has no knowledge as to the destination of subject merchandise, except that it is for export, the Department will classify such sales as export sales and exclude them from the home market sales database. See Final Determination of Sales at Less Than Fair Value: Certain Hot-Rolled Carbon Steel Flat Products, Certain Cold-Rolled Carbon Steel Plate Products, Certain Corrosion-Resistant Carbon Steel Flat Products, and Certain Cut-to-Length Carbon Steel Plate From Korea, 58 FR 37176, 37182 (July 9, 1993).

In its September 30, 2005, questionnaire response, Chia Far stated that it has reason to believe that some of the home market customers to whom it sold SSSS during the POR may have exported the merchandise. Specifically, Chia Far indicated that it shipped some of the SSSS it sold to home market customers during the POR to a container yard or placed the SSSS in an ocean shipping container at the home market customer's request. Chia Far stated that even though the merchandise was containerized or sent to a container yard, it could not prove the merchandise was exported to a third country, and therefore, it included those sales in its reported home market sales. Although Chia Far stated that it does not definitively know whether the SSSS in question will be exported, the Department has preliminarily determined that, based on the fact that these sales were sent to a container yard or placed in a container by Chia Far at the request of the home market customer, Chia Far should have known that the SSSS in question was not for consumption in the home market. Therefore, the Department has preliminarily excluded these sales from Chia Far's home market sales database.

Comparison Methodology

In order to determine whether Chia Far sold SSSS to the United States at prices less than NV, the Department compared the EP and CEP of individual U.S. sales to the monthly weighted-average NV of sales of the foreign like product made in the ordinary course of trade. See section 777A(d)(2) of the Act; see also section 773(a)(1)(B)(i) of the Act. Section 771(16) of the Act defines foreign like product as merchandise that is identical or similar to subject merchandise and produced by the same person and in the same country as the subject merchandise. Thus, we considered all products covered by the scope of the order that were produced by the same person and in the same country as the subject merchandise, and sold by Chia Far in the comparison market during the POR, to be foreign like products for the purpose of determining appropriate product comparisons to SSSS sold in the United States.

During the POR, Chia Far sold subject merchandise and foreign like product that it made from hot- and cold-rolled stainless steel coils (products covered by the scope of the order) purchased from unaffiliated parties. Chia Far further processed the hot- and cold-rolled stainless steel coils by performing one or more of the following procedures: cold-rolling, bright annealing, surface finishing/shaping, slitting. We did not consider Chia Far to be the producer of the merchandise under review if it performed insignificant processing on the coils (e.g., annealing, slitting, surface finishing). See Stainless Steel Plate in Coils from Belgium: Final Results of Antidumping Duty Administrative Review, 69 FR 74495 (December 14, 2004) and the accompanying Issues and Decision Memorandum at Comment 4 (listing painting, slitting, finishing, pickling, oiling, and annealing as minor processing for flat-rolled products). Furthermore, we did not consider Chia Far to be the producer of the cold-rolled products that it sold if it was not the first party to cold roll the coils. The cold-rolling process changes the surface quality and mechanical properties of the product and produces useful combinations of hardness, strength, stiffness, and ductility. Stainless steel cold-rolled coils are distinguished from hot-rolled coils by their reduced thickness, tighter tolerances, better surface quality, and increased hardness which are achieved through cold-rolling. Chia Far's cold rolling of the cold-rolled coils that it purchased may have modified these characteristics to suit the needs of particular customers; however, it did not impart these defining characteristics to the finished coils. Thus, we considered the original party that cold-rolled the product to be its producer.

The Department compared U.S. sales to sales made in the comparison market within the contemporaneous window period, which extends from three months prior to the month in which the U.S. sale was made until two months after the month in which the U.S. sale was made. Where there were no sales of identical merchandise made in the comparison market in the ordinary course of trade, the Department compared U.S. sales to sales of the most similar foreign like product made in the ordinary course of trade. In making product comparisons, the Department selected identical and most similar foreign like products based on the physical characteristics reported by Chia Far in the following order of importance: grade, hot- or cold-rolled, gauge, surface finish, metallic coating, non-metallic coating, width, temper, and edge. Where there were no appropriate sales of the foreign like product to compare to a U.S. sale, we compared the price of the U.S. sale to constructed value (CV), in accordance with section 773(a)(4) of the Act.

Export Price and Constructed Export Price

The Department based the price of Chia Far's U.S. sales of subject merchandise on EP or CEP, as appropriate. Specifically, when Chia Far sold subject merchandise to unaffiliated purchasers in the United States prior to importation, and CEP was not otherwise warranted based on the facts of the record, we based the price of the sale on EP, in accordance with section 772 (a) of the Act. On the other hand, when Chia Far sold subject merchandise to unaffiliated purchasers in the United States after importation through its U.S. affiliate, Lucky Medsup, we based the price of the sale on CEP, in accordance with section 773(b) of the Act. Although Chia Far based the date of sale for its EP and CEP transactions on the order confirmation date, in response to questions from the Department, Chia Far reported information showing that the material terms of U.S. sales changed after the order confirmation date (e.g., ordered quantities in excess of the allowable variation and changes to prices). See Chia Far's January 19, 2006, at 24, and April 5, 2006, at 1, supplemental questionnaire responses.

Normally, the Department considers the respondent's invoice date as recorded in its business records to be the date of sale unless a date other than the invoice date better reflects the date on which the company establishes the material terms of sale. See 19 CFR § 351.401(i). Given that changes to the material terms of sale occurred after the order confirmation date, the record does not support using order confirmation as the date of sale. Therefore, we have preliminarily used invoice date as the date of sale for Chia Far's EP and CEP transactions. However, consistent with the Department's practice, where the invoice was issued after the date of shipment to the first unaffiliated U.S. customer, we relied upon the date of shipment as the date of sale. See Certain Cold-Rolled and Corrosion Resistant Carbon Steel Flat Products From Korea; Final Results of Antidumping Duty Administrative Reviews, 64 FR 12927, 12935 (March 16, 1999), citing Certain Cold-Rolled and Corrosion Resistant Carbon Steel Flat Products From Korea; Final Results of Antidumping Duty Administrative Reviews, 63 FR 13170, 13172-73 (March 18, 1998) (“in these final results we have followed the Department's methodology from the final results of the third reviews, and have based date of sale on invoice date from the U.S. affiliate, unless that date was subsequent to the date of shipment from Korea, in which case that shipment date is the date of sale.”).

In accordance with sections 772 (a) and (c) of the Act, we calculated EP using the prices Chia Far charged for packed subject merchandise, from which we deducted, where applicable, the following expenses: foreign inland freight (from Chia Far's plant to the port of exportation), brokerage and handling, international ocean freight, marine insurance, container handling, and harbor construction. Additionally, we added to the starting price an amount for duty drawback pursuant to section 772(c)(1)(B) of the Act.

In accordance with sections 772(c)(2)(A) and 772(d)(1) and (3) of the Act, we calculated CEP using the prices charged for packed subject merchandise sold to the first unaffiliated purchaser in the United States, from which we deducted the following expenses: foreign inland freight (from Chia Far's plant to the port of exportation), brokerage and handling, international ocean freight, marine and inland insurance, container handling, harbor construction, other U.S. transportation, U.S. duty, direct and indirect selling (to the extent these expenses are associated with economic activity in the United States), and CEP profit (profit allocated to expenses deducted under sections 772(d)(1) and (d)(2) of the Act in accordance with sections 772(d)(3) and 772(f) of the Act). We computed profit by deducting from total revenue realized on sales in both the U.S. and comparison markets, all expenses associated with those sales. We then allocated profit to expenses incurred with respect to U.S. economic activity, based on the ratio of total U.S. expenses to total expenses for both the U.S. and comparison markets. Lastly, we added to the starting price an amount for duty drawback pursuant to section 772(c)(1)(B) of the Act.

Normal Value

After testing home market viability and whether comparison-market sales were at below-cost prices, we calculated NV for Chia Far as noted in the “Price-to-Price Comparisons” and “Price-to-CV Comparisons” sections of this notice.

A. Home Market Viability

In accordance with section 773(a)(1)(C) of the Act, in order to determine whether there was a sufficient volume of sales in the home market to serve as a viable basis for calculating NV (i.e., the aggregate volume of home market sales of the foreign like product is greater than or equal to five percent of the aggregate volume of U.S. sales), we compared the aggregate volume of Chia Far's home market sales of the foreign like product to the aggregate volume of its U.S. sales of subject merchandise. Because the aggregate volume of Chia Far's home market sales of foreign like product is more than five percent of the aggregate volume of its U.S. sales of subject merchandise, we based NV on sales of the foreign like product in the respondent's home market. See section 773(a)(1)(C)(ii) of the Act.

B. Cost of Production Analysis

In the previous administrative review in this proceeding, the Department determined that Chia Far sold foreign like product at prices below the cost of producing the product and excluded such sales from the calculation of NV. See Stainless Steel Sheet and Strip in Coils from Taiwan; Final Results and Partial Rescission of Antidumping Duty Administrative Review, 71 FR 7519 (February 13, 2006). As a result, in accordance with section 773(b)(2)(A)(ii) of the Act, the Department has determined that there are reasonable grounds to believe or suspect that during the instant POR, Chia Far sold foreign like product at prices below the cost of producing the product. Thus, the Department initiated a sales below cost inquiry with respect to Chia Far.

1. Calculation of COP

In accordance with section 773(b)(3) of the Act, for each foreign like product sold by Chia Far during the POR, we calculated a weighted-average COP based on the sum of the respondent's materials and fabrication costs, selling, general and administrative (G&A) expenses, including interest expenses and packing costs. We made the following adjustments to Chia Far's cost data: (1) we set interest expenses to zero, (2) we used Chia Far's July 11, 2006, cost database, which excludes costs related to subject merchandise not produced by Chia Far, and (3) for the cost of subject merchandise not produced by Chia Far, we used, as facts available, Chia Far's costs to produce merchandise with characteristics identical or similar to characteristics of the subject merchandise not produced by Chia Far. For further information see Memorandum to Neal M. Halper from Laurens van Houten, Cost of Production and Constructed Value Calculation Adjustments for the Preliminary Results - Chia Far Industrial Factory Co., Ltd., dated concurrently with this notice.

2. Test of Comparison-Market Sales Prices

In order to determine whether sales were made at prices below the COP on a product-specific basis, we compared the respondent's weighted-average COP to the prices of its home market sales of foreign like product, as required under section 773(b) of the Act. In accordance with sections 773(b)(1)(A) and (B) of the Act, in determining whether to disregard home market sales made at prices less than the COP, we examined whether such sales were made: (1) in substantial quantities within an extended period of time; and (2) at prices which permitted the recovery of all costs within a reasonable period of time. We compared the COP to home market sales prices, less any applicable movement charges and direct and indirect selling expenses.

3. Results of the COP Test

Pursuant to section 773(b)(2)(C) of the Act, where less than 20 percent of a respondent's sales of a given product were made at prices less than the COP, we did not disregard any below-cost sales of that product because the below-cost sales were not made in “substantial quantities.” Where 20 percent or more of a respondent's sales of a given product were made at prices less than the COP during the POR, we determined such sales to have been made in “substantial quantities” within an extended period of time (i.e., one year) pursuant to sections 773(b)(2)(B) and (C) of the Act. Based on our comparison of POR average costs to reported prices, we also determined, in accordance with section 773(b)(2)(D) of the Act, that these sales were not made at prices which would permit recovery of all costs within a reasonable period of time. As a result, we disregarded below-cost sales for Chia Far.

Price-to-Price Comparisons

Where it was appropriate to base NV on prices, we used the prices at which the foreign like product was first sold by Chia Far for consumption in the home market, in the usual commercial quantities, in the ordinary course of trade, and, to the extent possible, at the same LOT as the comparison U.S. sale. We excluded from our analysis Chia Far's home market sales of foreign like product identified by the Department as having been manufactured by parties other than the parties who manufactured the subject merchandise sold by Chia Far to U.S. customers during the POR.

In accordance with sections 773(a)(6)(A), (B), and (C) of the Act, where appropriate, we deducted from the starting price rebates, warranty expenses, movement expenses, home market packing costs, credit expenses and other direct selling expenses and added U.S. packing costs and, for NVs compared to EPs, credit expenses, and other direct selling expenses. Additionally, where appropriate, we made price adjustments for physical differences in the merchandise. See 773(a)(6)(C)(ii) of the Act and 19 CFR § 351.410(e). Finally, in accordance with the Department's practice, where all contemporaneous matches to a U.S. sale resulted in difference-in-merchandise adjustments exceeding 20 percent of the cost of manufacturing the U.S. product, we based NV on CV.

Price-to-CV Comparisons

In accordance with section 773(a)(4) of the Act, we based NV on CV when we were unable to compare the U.S. sale to a home market sale of an identical or similar product. For each unique SSSS product sold to unaffiliated customers in the United States during the POR, we calculated a weighted-average CV based on the sum of the respondent's materials and fabrication costs, SG&A expenses, including interest expenses, packing costs, and profit. In accordance with section 773(e)(2)(A) of the Act, we based SG&A expenses and profit on the amounts incurred and realized by the respondent in connection with the production and sale of the foreign like product, in the ordinary course of trade, for consumption in the home market. We based selling expenses on weighted-average actual home market direct and indirect selling expenses. In calculating CV, we adjusted the reported costs as described in the COP section above.

Level of Trade

In accordance with section 773(a)(1)(B) of the Act, to the extent practicable, we determine NV based on sales in the comparison market at the same LOT as the EP or CEP sales. The NV LOT is based on the starting price of the sales in the comparison market or, when NV is based on CV, the starting price of the sales from which we derive SG&A expenses and profit. For EP sales, the U.S. LOT is based on the starting price of the sales to the U.S. market. For CEP sales, the U.S. LOT is based on the starting price of the sales, as adjusted under section 772(d) of the Act. See Micron Technology, Inc. v. United States, 243 F.3d, 1301, 1315 (Fed. Cir. 2001).

To determine whether NV sales are at a different LOT than the EP and CEP sales, we examine stages in the marketing process and selling functions along the chain of distribution between the producer and the customer. If the comparison market sales are at a different LOT, and the difference affects price comparability, as manifested in a pattern of consistent price differences between the sales on which NV is based and comparison-market sales at the LOT of the export transaction, we make a LOT adjustment under section 773(a)(7)(A) of the Act. For CEP sales, if the NV level is more remote from the factory than the CEP level and there is no basis for determining whether the difference in the levels between NV and CEP affects price comparability, we adjust NV under section 773(A)(7)(B) of the Act (the CEP offset provision). See Notice of Final Determination of Sales at Less Than Fair Value: Certain Carbon Steel Plate from South Africa, 62 FR 61731 (November 19, 1997).

In determining whether separate LOTs exist, we obtained information from Chia Far regarding the marketing stages for the reported U.S. and comparison market sales, including a description of the selling activities performed for each channel of distribution. Generally, if the reported LOTs are the same, the functions and activities of the seller at each level should be similar. Conversely, if a party reports that LOTs are different for different groups of sales, the selling functions and activities of the seller for each group should be dissimilar.

Chia Far reported that it sold foreign like product in the home market to two types of customers, distributors and end users, through one channel of distribution. Chia Far performed the following sales activities for both types of home market customers: price negotiation/order processing, arranging freight and delivery, inventory maintenance, providing technical advice to customers and providing warranty services. See Chia Far's Section A questionnaire response at Exhibit A-6. Moreover, Chia Far performed corresponding selling functions at the same level of intensity for each type of customer. Therefore, we have preliminarily determined that there is one LOT in the home market.

For the U.S. market, Chia Far reported that it sold to unaffiliated distributors directly (i.e., EP sales) and through its U.S. affiliate, Lucky Medsup (i.e., CEP sales). Since the Department bases the LOT of CEP sales on the price in the United States after making CEP deductions under section 772(d) of the Act, we based the LOT of Chia Far's CEP sales on the price after deducting U.S. selling expenses. Chia Far performed the following activities with respect to its EP and CEP sales: price negotiation/order processing, arranging freight and delivery, providing technical advice to customers and providing warranty services. See Chia Far's Section A questionnaire response at Exhibit A-6. Moreover, Chia Far performed corresponding selling functions at the same level of intensity for each sale type (i.e., EP or CEP sale). Therefore, we have preliminarily determined that there is one LOT in the U.S. market.

To determine whether NV is at a different LOT than the U.S. transactions, the Department compared home market selling activities in the home market LOT with those for the U.S. LOT. Chia Far engaged in the following selling activities, and performed corresponding selling activities at the same or at a similar level of intensity, for both the home market LOT and U.S. market LOT: price negotiation/order processing, arranging freight and delivery, providing technical advice to customers, and providing warranty services. See Chia Far's Section A questionnaire response at Exhibit A-6. While Chia Far may have engaged in inventory maintenance/warehousing with respect to the LOT of its home market sales but not with respect to its U.S. sales, the record indicates that the significance of this difference is minimal. Thus, the Department has determined that the differences between the home and U.S. market LOTs are at the same level.

In its questionnaire response, Chia Far requested a CEP offset. See Chia Far's Section A questionnaire response at 16. The Department will grant a CEP offset if NV is at a more advanced LOT than the CEP transactions and there is no basis for determining whether the difference in the levels between NV and CEP affects price comparability (e.g., a LOT adjustment is not possible because there is only one LOT in the home market). Here, the Department has not found the NV LOT to be more advanced than the CEP LOT, and thus, it has not granted Chia Far a CEP offset.

Currency Conversion

Pursuant to section 773A(a) of the Act, we converted amounts expressed in foreign currencies into U.S. dollar amounts based on the exchange rates in effect on the dates of the U.S. sales, as certified by the Federal Reserve Bank.

Preliminary Results of Review

As a result of this review, we preliminarily determined that the following weighted-average dumping margins exist for the period July 1, 2004, through June 30, 2005:

Manufacturer/Exporter | Margin (percent)
Chia Far Industrial Factory Co., Ltd. | 0.81
Tang Eng Iron Works | 21.10
Goang Jau Shing Enterprise Co., Ltd. | 21.10
PFP Taiwan Co., Ltd. | 21.10
Yieh Trading Corp. (also known as Yieh Corp.) | 21.10
Chien Shing Stainless Co. | 21.10

Public Comment

Within 10 days of publicly announcing the preliminary results of this review, we will disclose to interested parties any calculations performed in connection with the preliminary results. See 19 CFR § 351.224(b). Any interested party may request a hearing within 30 days of the publication of this notice in the Federal Register. See 19 CFR § 351.310(c). If requested, a hearing will be held 44 days after the date of publication of this notice in the Federal Register, or the first workday thereafter. Interested parties are invited to comment on the preliminary results of this review. The Department will consider case briefs filed by interested parties within 30 days after the date of publication of this notice in the Federal Register. Also, interested parties may file rebuttal briefs, limited to issues raised in the case briefs. The Department will consider rebuttal briefs filed not later than five days after the time limit for filing case briefs. Parties who submit arguments are requested to submit with each argument: (1) a statement of the issue, (2) a brief summary of the argument and (3) a table of authorities. Further, we request that parties submitting written comments provide the Department with an electronic copy of the public version of such comments. Unless the deadline for issuing the final results of review is extended, the Department will issue the final results of this administrative review, including the results of its analysis of issues raised in the written comments, within 120 days of publication of the preliminary results in the Federal Register.

Assessment Rates

In accordance with 19 CFR § 351.212(b)(1), in these preliminary results of review we calculated importer-specific assessment rates for Chia Far. If the importer-specific assessment rate is above de minimis (i.e., 0.50 percent ad valorem or greater), we will instruct CBP to assess the importer/customer-specific rate uniformly, as appropriate, on all entries of subject merchandise during the POR that were entered by the importer or sold to the customer. For the respondents receiving dumping margins based upon AFA, the Department will instruct CBP to liquidate entries according to the AFA ad valorem rate. Within 15 days of publication of the final results of review, the Department will issue instructions to CBP directing it to assess the final assessment rates (if above de minimis) uniformly on all entries of subject merchandise made by the relevant importers during the POR.

The Department clarified its “automatic assessment” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective for all shipments of the subject merchandise entered, or withdrawn from warehouse, for consumption on or after the publication date of the final results of this administrative review, as provided by section 751(a)(1) of the Act: (1) the cash deposit rates for the companies examined in the instant review will be the rates established in the final results of this review (except that if the rate for a particular company is de minimis, i.e., less than 0.5 percent, no cash deposit will be required for that company); (2) for previously investigated or reviewed companies not listed above, the cash deposit rate will continue to be the company-specific rate published for the most recent period; (3) if the exporter is not a firm covered in this review, a prior review, or the less-than-fair-value (LTFV) investigation, but the manufacturer is, the cash deposit rate will be the rate established for the most recent period for the manufacturer of the subject merchandise; and (4) the cash deposit rate for all other manufacturers or exporters will continue to be the “all others” rate of 12.61 percent, which is the “all others” rate established in the LTFV investigation. See Final Determination, 64 FR 30592. These cash deposit rates, when imposed, shall remain in effect until publication of the final results of the next administrative review.

Notification to Importers

This notice also serves as a preliminary reminder to importers of their responsibility under 19 CFR § 351.402(f)(2) to file a certificate regarding the reimbursement of antidumping prior to liquidation of the relevant entries during this review period. Failure to comply with this requirement could result in the Secretary's presumption that reimbursement of antidumping duties occurred and the subsequent assessment of double antidumping duties.

We are issuing and publishing this notice in accordance with sections 751(a)(1) and 777(i)(1) of the Act.

Dated: July 31, 2006.
David M. Spooner,
Assistant Secretary for Import Administration.

[FR Doc. E6-12999 Filed 8-8-06; 8:45 am]

BILLING CODE 3510-DS-S